EXPORT-IMPORT BANK

Sunshine Act Meetings; Notice of an Open Meeting of the Board of Directors of the Export-Import Bank of the United States

TIME AND DATE: Thursday, April 14, 2022, at 9:30 a.m.

PLACE: The meeting will be held via teleconference.

STATUS: The meeting will be open to public observation for Item Number 1.

MATTERS TO BE CONSIDERED: EXIM Medium- and Long-term Domestic Finance Initiative.

CONTACT PERSON FOR MORE INFORMATION: Joyce B. Stone (202-257-4086). Members of the public who wish to attend the meeting via teleconference must register via using the link below:

https://teams.microsoft.com/registration/PAFTuZHHMk2Zb1GDkIVFJw,pHLqbjVTrkuy_9KepKN6dQ,MFtnLzltSEGI6EQECdI5iQ,jw0mEB4nbEWEHA3ZPbwqwg,BKzFZMMTLU2RBwkLSt7EDQ,rRf9k11i1EqCfQg80ebrDw?mode=read&tenantId=b953013c-c791-4d32-996f-518390854527

by noon Wednesday April 13, 2022. After completing the registration, Individuals will receive a confirmation email containing information about joining the webinar.

Joyce B. Stone,
Assistant Corporate Secretary.

[FR Doc. 2022-06854 Filed 3-29-22; 8:45 am]

BILLING CODE 6690-01-P